DEPARTMENT OF AGRICULTURE

Submission for OMB Review; Comment Request

February 21, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by March 29, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: Certificate for Quota Eligibility (CQE).

OMB Control Number: 0551-0014.

Summary of Collection: Imports of raw cane sugar are subject to a tariff-rate import quota (TRQ) that is allocated on a country-by-country basis to foreign countries or areas. A U.S. certificate for quota eligibility (CQE) issued by USDA and authenticated by a certifying authority in the foreign country permits entry of raw cane sugar under the TRQ. U.S. Note 5 (a)(i) of the Harmonized Tariff Schedule of the United State requires the Secretary to establish a TRQ for raw-cane sugar (entered under HTS 1701.12.10 and 1701.14.10) during each fiscal year with a minimum TRQ amount of 1,117,195 metric tons, raw value. In Addition 5 (b)(1) authorizes the U.S. Trade Representative to allocate the raw-cane sugar tariff-rate quota among supplying countries. CQEs are issued to the 40 countries that receive TRQ allocations to export sugar to the United State. The CQE is completed by the certifying authority in the foreign country that certifies that the sugar being exported to the United States was produced in the foreign country that has the TRQ allocation. The Foreign Agriculture will collect information using form FAS-961.

Need and Use of the Information: FAS will collect the following information: (1) Country of origin or area of the eligible raw cane sugar; (2) quota period; (3) quantity of raw cane sugar to be exported; (4) details of the shipment (shipper, vessel, port of loading); and (5) additional details if available at the time of shipment (consignee, address of consignee, expected date of departure, expected date of arrival in the U.S., expected port of arrival). The information will help determine if the quantity to be imported is eligible to be entered under the TRQ. Without the CQEs, USDA/FAS and CBP could not administer the raw cane sugar TRQs authorized under U.S. law.

Description of Respondents: Business or other for-profit.

Number of Respondents: 40.

Frequency of Responses: Reporting: Annually.

Total Burden Hours: 519.

Ruth Brown,
Departmental Information Collection Clearance Officer.

[FR Doc. 2017-03695 Filed 2-24-17; 8:45 am]

BILLING CODE 3410-10-P